CONSUMER PRODUCT SAFETY COMMISSION

[Docket No. CPSC-2012-0056]

Agency Information Collection Activities; Submission for OMB Review; Comment Request; Safety Standard for Omnidirectional Citizens Band Base Station Antennas

AGENCY: U.S. Consumer Product Safety Commission.

ACTION: Notice.

SUMMARY: As required by the Paperwork Reduction Act of 1995, the Consumer Product Safety Commission (CPSC or Commission), announces that the Commission has submitted to the Office of Management and Budget (OMB) a request for extension of approval for a collection of information associated with the Commission's Safety Standard for Omnidirectional Citizens Band Base Station Antennas, approved previously under OMB Control No. 3041-0006. On May 11, 2022, CPSC published a notice in the Federal Register announcing the agency's intent to seek this extension. CPSC received no comments in response to that notice. Therefore, by publication of this notice, the Commission announces that CPSC has submitted to the OMB a request for extension of approval of this collection of information.

DATES: Written comments on this request for extension of approval of information collection requirements should be submitted by August 26, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2012-0056.

FOR FURTHER INFORMATION CONTACT: Cynthia Gillham, Consumer Product Safety Commission, 4330 East West Highway, Bethesda, MD 20814; (301) 504-7991, or by email to: cgillham@cpsc.gov.

SUPPLEMENTARY INFORMATION: On May 11, 2022, CPSC published a notice in the Federal Register announcing the agency's intent to seek an extension for this information collection. 87 FR 28816. CPSC received no comments in response to that notice. Accordingly, CPSC seeks to renew the following currently approved collection of information:

Title: Safety Standard for Omnidirectional Citizens Band Base Station Antennas.

OMB Number: 3041-0006.

Type of Review: Renewal of collection.

Frequency of Response: On occasion.

Affected Public: Manufacturers, importers, and private labelers of omnidirectional citizens band base station antennas.

Estimated Number of Respondents: Approximately 10 firms supply omnidirectional citizen band base station antennas.

Estimated Time per Response: Based on the information compiled by manufacturers, importers, and private labelers of antennas to test and maintain records for certificates of compliance, we estimate an average of 220 hours per firm for annual testing and recordkeeping.

Total Estimated Annual Burden: 2,200 hours (10 firms × 220 hours).

General Description of Collection: The Safety Standard for Omnidirectional Citizens Band Base Station Antennas (16 CFR part 1204) establishes performance requirements for omnidirectional citizens band base station antennas to reduce unreasonable risks of death and injury that may result if an antenna contacts overhead power lines while being erected or removed from its site. The regulations implementing the standard (16 CFR part 1204, subpart B) require manufacturers, importers, and private labelers of antennas subject to the standard to test the antennas for compliance with the standard and to maintain records of that testing. Based on an average hourly wage of $71.82,¹ the total annual cost to the industry to perform the required testing and maintain the records is approximately $158,000 ($71.82 times 2,200 hours).

¹ See Table 4: Employer Costs for Employee Compensation News Release—2021 Q03 Results (bls.gov).

Alberta E. Mills,
Secretary, Consumer Product Safety Commission.

[FR Doc. 2022-16088 Filed 7-26-22; 8:45 am]

BILLING CODE 6355-01-P